NATIONAL AERONAUTICS AND SPACE ADMINISTRATION

14 CFR Part 1215

[Notice (12-009)]

RIN 2700-AD72

Tracking and Data Relay Satellite System (TDRSS) Rates for Non-U.S. Government Customers

AGENCY: National Aeronautics and Space Administration.

ACTION: Direct final rule.

SUMMARY: This direct final rule makes non-substantive changes to the policy governing the Tracking and Data Relay Satellite System (TDRSS) services provided to non-U.S. Government users and the reimbursement for rendering such services. TDRSS, also known as the Space Network, provides command, tracking, data, voice, and video services to the International Space Station, NASA's space and Earth science missions, and other Federal agencies, including the Department of Defense and the National Science Foundation. For a fee, commercial users can also have access to TDRSS for tracking and data acquisition purposes. Over the last 25 years, TDRSS has delivered pictures, television, scientific, and voice data to the scientific community and the general public, including data from more than 100 Space Shuttle and International Space Station missions and the Hubble Space Telescope. A principal advantage of TDRSS is providing communications services, which previously have been provided by multiple worldwide ground stations, with much higher data rates and lower latency to the user missions.

DATES: This direct final rule is effective April 10, 2012 unless the Agency receives significant adverse comments by midnight Eastern Standard Time on March 12, 2012.

ADDRESSES: Comments must be identified with “RIN 2700-AD72” and may be sent to NASA by the following method:

• Federal E-Rulemaking Portal: http://www.regulations.gov. Follow the online instructions for submitting comments. Please note that NASA will post all comments on the Internet without change, including any personal information provided.

FOR FURTHER INFORMATION CONTACT: For more information on the Tracking and Data Relay Satellite System visit: https://www.spacecomm.nasa.gov/spacecomm/programs/Space_network.cfm. Questions may be directed to Jon Walker at (202) 358-2145 or via email at Jon.Z.Walker@nasa.gov.

SUPPLEMENTARY INFORMATION: The regulations pertaining to TDRSS were originally published in 1983 and, apart from minor revisions in 1991 and the revision to the rates in 1997, have not been updated and do not reflect current operating procedures for determining how fees are charged, billed, or received. In addition to updating the fee structure, this rule also removes and replaces obsolete references. Finally, this rule responds to recommendations from a NASA IG Audit of the TRDSS program. These rule changes will ensure non-U.S. Government users of TDRSS properly reimburse NASA for services provided to them and share in the costs of system upgrades. The revisions to this rule are part of NASA's retrospective plan under EO 13563 completed in August 2011. NASA's full plan can be accessed at: http://www.nasa.gov/pdf/581545main_Final%20Plan%20for%20Retrospective%20Analysis%20of%20Existing%20Regulations.pdf.

I. Direct Final Rule and Significant Adverse Comments

NASA has determined this rulemaking meets the criteria for a direct final rule because it involves non-substantive changes dealing with NASA's management of TDRSS program. NASA expects no opposition to the changes and no significant adverse comments. However, if NASA receives a significant adverse comment, the Agency will withdraw this direct final rule by publishing a notice in the Federal Register. A significant adverse comment is one that explains: (1) Why the direct final rule is inappropriate, including challenges to the rule's underlying premise or approach; or (2) why the direct final rule will be ineffective or unacceptable without a change. In determining whether a comment necessitates withdrawal of this direct final rule, NASA will consider whether it warrants a substantive response in a notice and comment process.

II. Statutory Authority

TDRSS was established under the National Aeronautics and Space Act of 1958. The primary goal of TDRSS is to provide improved tracking and data acquisition services capability to spacecraft in low-Earth orbit or to mobile terrestrial users such as aircraft or balloons. The reimbursement policy to achieve efficient TDRSS usage complies with the Office of Management and Budget Circular A-25 on User Charges, which requires that a reasonable charge should be made to each identifiable recipient for a measurable unit or amount of Government service or property from which a special benefit is derived. Additional information on A-25 can be found at: http://www.whitehouse.gov/omb/circulars_a025.

The cost base for TDRSS consists of two elements. The first element is the return on investment (ROI) portion which represents the cost of the assets necessary to provide communications services. The second element is the costs for the ongoing operations and maintenance (O&M) of the network which provides the communications services. The return on investment portion of the cost base amortizes these investment costs over a beneficial accounting period related to the lifetime of the assets. Due to the extraordinary longevity of the first generation spacecraft and utilization of satellite store onorbit approach for spare satellites, the spacecraft and their launch vehicles are amortized over a twenty-five year lifetime. For ground segment costs, a period of 20 years is utilized. Although the nominal lifetime of software systems is usually ten years, the network has a vigorous sustaining engineering program which repairs/replaces equipment, updates and tests software modifications, conducts major complex upgrades, and accomplishes other activities which extend the useful lifetime.

The O&M portion of the cost base are averaged over a five-year window (current budget year (BY) plus four) to dampen fluctuations from year to year and add stability to the derived reimbursement rates. These costs reflect the total funding requirements for the network, not just those in NASA's direct budget which may reflect offsetting reimbursements anticipated. Due to changes in the Agency approach to management and budgeting for institutional portions of the full costs of Center operations in 1999, the field Center submissions to the program office no longer include these cost elements, which are separately managed and budgeted by other Agency organizations. These cost elements Center Operations and Maintenance (CO&M), are added to the submission data to capture the full costs of service provision. For more information visit: http://oig.nasa.gov/audits/reports/FY99/pdfs/ig-99-024.pdf.

The total cost base is the sum of the ROI and the O&M elements. The cost base is inserted into the algorithm along with spacecraft cost factor (based on original plans), the link time available (total time available), the number of links (high data single access, low rate multiple-access forward, and low rate multiple-access return), and overall efficiency of the service (varies between services). In terms of user charges for the program going forward, the user rates will be recalculated on a periodic basis, removing TDRSS spacecraft that are no longer operational and updating the five-year average O&M cost component as budgets are updated.

Many sections of Part 1215 (i.e., Sections 1215.100, 1215.101, 1215.102, 1215.103, 1215.105, 1215.106, 1215.108, 1215.109, 1215.112, 1215.113, 1215.114, and 1215.115) are being updated and rewritten, mainly due to the passage of time. Outdated terms and missions have been updated or removed, additional system capabilities have been added and are now described, and new Web site references are being added to keep information current (without requiring constant updates to the CFR). A section-by-section description of the changes is provided in paragraph III below. Appendices A and B are being deleted from the CFR. Appendix A was the Estimated Service Rates in 1997 Dollars for TDRSS Standard Services which are very much out of date. The current Fiscal Year rates will instead be placed on the Space Communications and Navigation Program (SCaN) Web site and updated periodically. This was done to enable easier public access to the information and to keep the information current. The need to frequently update the CFR as Service Rates change is thus obviated. Appendix B was an obsolete list of Factors Affecting Standard Charges. These factors were initially thought to reward customer flexibility, allowing more efficient use of the system. This notion was never implemented in the Service Accounting System and determined to be more expensive to include than the difference in revenue would cover. The Service Accounting System is the offline NASA system that keeps track of individual mission schedule requests and actual use provided. Thus, Appendix B, containing usage factors never implemented in the system, was deleted.

III. Regulatory Background

TDRSS is a network of U.S. communication satellites and ground stations used by NASA for space communications near the Earth. The system was designed to replace an existing network of ground stations that had supported all of NASA's spaceflight missions. The primary design goal was to increase the time spacecraft were in communication with the ground and improve the amount of data that could be transferred. The system is capable of transmitting to and receiving data from spacecraft over at least 85 percent of the spacecraft's orbit. For a fee, this system is also accessible to university satellite programs, small commercial Earth-imaging programs, and other commercial customers, as well as Arctic and Antarctic science programs. In this direct final rule, NASA is documenting the present way of doing business and removing the actual rate from the rule and direct the users to a location on a public NASA Web site where the updated rates can be found.

Since the rates could change annually, NASA desires the flexibility not to amend the CFR each time the rates change. Current rate information can be accessed at: https://www.spacecomm.nasa.gov/spacecomm/programs/Space_network.cfm. Scroll down to and click on the first item under Related Information for the Space Network Reimbursable Rates for the current fiscal year. This rule also amends the CFR by updating certain sections, conforming them to the program's current operation.

IV. Section-by-Section Analysis

1215.100 General

A redundant sentence was taken out of the explanation of why TDRSS was formed.

1215.101 Scope

Outdated references to missions that are no longer operational were taken out. References to the Spacelab and Space Shuttle were removed. NASA organizational changes are also reflected. The TDRSS program now resides with the SCaN.

1215.102 Definitions

TDRSS has an additional ground terminal called the Guam Remote Ground Terminal (GRGT). Flexible support and constrained support are outdated terms and have been removed. As stated earlier, these factors were initially thought to reward customer flexibility, allowing more efficient use of the system. This notion was never implemented in the Service Accounting System and was determined to be more expensive to include than the difference in revenue would cover. Thus, these terms were deleted.

1215.103 Services

Outdated terms and location references were taken out. Emergency line outage recording in the event of a communications failure between the White Sands Complex (WSC), Goddard Space Flight Center (GSFC), and Johnson Space Center (JSC); a weekly user spacecraft orbit determination in NASA standard orbital elements as determined by NASA for TDRSS target acquisition purposes; delivery of user data at the NASA Ground Terminal (NGT) located at WSC; and access to tracking data to enable users to perform orbit determination at their option were all removed. They are either services applicable to all customers as a part of TDRSS (line outage recording, access to tracking data), services not performed by TDRSS (user spacecraft orbit determination), or services to facilities no longer in existence (NGT) due to TDRSS upgrades. A detailed description of the services of TDRSS can be found in the Space Network User Guide (SNUG). The SNUG is available at: http://esc.gsfc.nasa.gov/assets/files/SN_UserGuide.pdf, and is useful to new customers who would like more detail about TDRSS. NASA customer commitment personnel work with new customers to understand what services TDRSS can provide and help them to select the necessary and appropriate services they may require.

1215.104 Apportionment and Assignment of Services

No change.

1215.105 Delivery of User Data

Outdated terms and location references were taken out. The NGT, as stated earlier, is a facility no longer in existence due to TDRSS upgrades. The NASA Communications Network (NASCOM) has been renamed the NASA Integrated Services Network (NISN). The NISN links data between NASA facilities and customers via commercial fiber optic cables and/or commercial communications satellites. In the event one of these circuits were to fail, TDRSS provides line outage recording to capture user data and forward it to customers once the circuits are repaired.

1215.106 User Command and Tracking Data

References to the GRGT were added. This NASA ground asset is a system upgrade and was added (since the last CFR update) to provide additional capacity and coverage of TDRSS. The Flight Dynamics Facility (FDF), now part of SCaN, provides orbit determination services. References to the Space Shuttle and Johnson Space Center were removed, both because the Shuttle program has ended and because the Space Shuttle was not a commercial, non-governmental TDRSS user. Again, the reference to the obsolete NGT was also removed.

1215.107 User Data Security and Frequency Authorizations

No change.

1215.108 Defining User Service Requirements

Requirements were updated to reflect the current process. The Networks Integration Management Office (NIMO) is the office for defining user requirements. Addresses were updated to reflect new locations and current organizations.

1215.109 Scheduling User Service

Outdated mission and location references were removed. The Network Control Center in Maryland was moved to New Mexico and renamed. The Space Shuttle program has ended. The CFR update reflects both these changes. Services that are no longer available from TDRSS were removed. Additional information can be found in Appendix A of this section of the CFR which shows a Typical New User Activity Timeline and the SNUG, which was described in Section 1215.103.

1215.110 User Cancellation of All Services

No change.

1215.111 User Postponement of Service

Organizational codes and locations were updated to reflect the current NASA organization.

1215.112 User/NASA Contractual Arrangement

NASA Policy Directive 1050.1I, Authority to Enter into Space Act Agreements (SAA), indicates that a SAA must be signed in order for reimbursable services to be rendered. This document is available at: http://nodis3.gsfc.nasa.gov/displayDir.cfm?t=NPD&c=1050&s=1I.

1215.113 User Charges

Number of hours before start of service changed (increased from 12 to 72 hours) to provide more lead time for the TDRSS schedulers to rearrange or add other missions' services times. This is to provide as much usable service to other customers as possible, since last-minute services cancellations are usually not useful to other customers due to their long mission planning times.

1215.114 Service Rates

Service rates were removed and placed on the SCaN Web site: https://www.spacecomm.nasa.gov/spacecomm/programs/Space_network.cfm for easier public access to the information. Scroll down and click on the first item under Related Information for the Space Network Reimbursable Rates for the current fiscal year.

1215.115 Payment and Billing

SCaN has updated and simplified user method of payment to reflect current practice. The notion of two service periods was not used, and thus removed. Mission-unique services did not have to be called out separately and was removed. All service payments are billed and payable as described in this section.

Appendix A

Appendix A contained the 1997 service rates which are obsolete and were removed. The current rates were placed on the SCaN Web site: https://www.spacecomm.nasa.gov/spacecomm/programs/Space_network.cfm for easier public access to the information. Scroll down and click on the first item under Related Information for the Space Network Reimbursable Rates for the current fiscal year.

Appendix B

Appendix B contained an obsolete list of Factors Affecting Standard Charges. These factors were initially thought to reward customer flexibility, allowing more efficient use of the system. This notion was never implemented in the Service Accounting System and determined to be more expensive to include than the difference in revenue would cover. Thus, Appendix B, containing usage factors never implemented in the system, was deleted.

Appendix C

This Appendix was updated and renamed Appendix A, to reflect the changes in § 1215.115, 1215.107, 1215.109, and 1215.113.

IV. Regulatory Analysis

A. Executive Order 12866—Regulatory Planning and Review

Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, reducing costs, harmonizing rules, and promoting flexibility. This final rule has been designated a “significant regulatory action,” although not economically significant, under section 3(f) of Executive Order 12866. Accordingly, the rule has been reviewed by the Office of Management and Budget.

B. Regulatory Flexibility Act

It has been certified that this final rule is not subject to the Regulatory Flexibility Act (5 U.S.C. 601) because it would not, if promulgated, have a significant economic impact on a substantial number of small entities. The rule implements the internal procedures for the effective administration of TDRSS.

C. Paperwork Reduction Act Statement

This final rule does contain an information collection requirement subject to the Paperwork Reduction Act of 1995 (44 U.S.C. 3501 et seq.).

List of Subjects in 14 CFR Part 1215

TDRSS, Space communications, Satellites.

Therefore, NASA amends 14 CFR part 1215 as follows:

PART 1215—TRACKING AND DATA RELAY SATELLITE SYSTEM (TDRSS)

1. The authority citation for part 1215 is revised to read as follows:

Authority: Sec. 203, Pub. L. 85-568, 72 Stat. 429, as amended; 42 U.S.C. 2473.

2. Section 1215.100 is revised to read as follows:

§ 1215.100 General.

TDRSS represents a major investment by the U.S. Government with the primary goal of providing improved tracking and data acquisition services to spacecraft in low-Earth orbit or to mobile terrestrial users such as aircraft or balloons. It is the objective of NASA to operate as efficiently as possible with TDRSS, is to the mutual benefit of all users. Such user consideration will permit NASA and non-NASA service to be delivered without compromising the mission objectives of any individual user. The reimbursement policy is designed to comply with the Office of Management and Budget Circular A-25 on User Charges, dated September 23, 1959, as updated, which requires that a reasonable charge should be made to each identifiable recipient for a measurable unit or amount of Government service or property from which a special benefit is derived.

3. Section 1215.101 is revised to read as follows:

§ 1215.101 Scope.

This subpart sets forth the policy governing TDRSS services provided to non-U.S. Government users and the reimbursement for rendering such services. Cooperative missions are not under the purview of this subpart. The arrangements for TDRSS services for cooperative missions will be covered in an agreement, as a consequence of negotiations between NASA and the other concerned party. Any agreement which includes provision for any TDRSS service will require signatory concurrence by the Deputy Associate Administrator for SCaN prior to dedicating SCaN resources for support of a cooperative mission.

4. Section 1215.102 is revised to read as follows:

§ 1215.102 Definitions.

(a) User. Any non-U.S. Government representative or entity that enters into an agreement with NASA to use TDRSS services.

(b) TDRSS. TDRSS, including Tracking and Data Relay Satellites (TDRS), WSC, GRGT, and the necessary TDRSS operational areas, interface devices, and NASA communication circuits that unify the above into a functioning system. It specifically excludes the user ground system/TDRSS interface.

(c) Bit stream. The electronic signals acquired by TDRSS from the user craft or the user-generated input commands for transmission to the user craft.

(d) Scheduling service period. One scheduled contact utilizing a single TDRS, whereby the user, by requesting service, is allotted a block of time for operations between the user satellite and TDRSS.

5. Section 1215.103 is revised to read as follows:

§ 1215.103 Services.

(a) Standard services. These are services which TDRSS is capable of providing to low-Earth orbital user spacecraft or other terrestrial users. Data are delivered to WSC or GRGT. A detailed description of services is provided in the GSFC Space Network Users' Guide, 450-SNUG. Contact the Chief, Networks Integration Management Office, at the address in Section 1215.108(d) to obtain a copy of the SNUG.

(1) Tracking service.

(2) Data acquisition service.

(3) Command transmission service.

(b) Required Support Services. These are support activities that are required to obtain TDRSS services.

(1) Prelaunch support planning, analysis, and documentation.

(2) Compatibility testing.

(3) Prelaunch support for data-flow testing and related activities.

(4) User services scheduling.

(c) Mission-unique services. Other tracking and data services desired by the user that are beyond the standard and required support services defined above. The associated charges for these services will be identified and assessed on a case-by-case basis.

6. Section 1215.105 is revised to read as follows:

§ 1215.105 Delivery of user data.

(a) As a standard service, NASA will provide to the user its data from TDRSS in the form of one or more digital or analog bit streams synchronized to associated clock streams at WSC or GRGT.

(b) User data-handling requirements beyond WSC or GRGT interface will be provided as a standard service to the user, to the extent that the requirements do not exceed NASA's planned standard communications system. Any additional data transport or handling requirements exceeding NASA's capability will be dealt with as a mission-unique service.

(c) No storage of the user data is provided in the standard service. NASA will provide short-term temporary recording of data at WSC in the event of a NASA Integrated Services Network (NISN) link outage.

(d) NASA will provide TDRSS services on a “reasonable efforts” basis, and, accordingly, will not be liable for damages of any kind to the user or third parties for any reason, including, but not limited to, failure to provide agreed-to services. The price for TDRSS services does not include a contingency or premium for any potential damages. The user will assume any risk of damages or obtain insurance to protect against any risk.

7. Section 1215.106 is revised to read as follows:

§ 1215.106 User command and tracking data.

(a) User command data shall enter TDRSS via the NISN interface at WSC or GRGT.

(b) NASA is required to have knowledge of the user satellite orbital elements to sufficient accuracy to permit TDRSS to establish and maintain acquisition. This can be accomplished in two ways:

(1) The user can provide the orbital elements in a NASA format to meet TDRSS operational requirements.

(2) The user shall ensure that a sufficient quantity of tracking data is received to permit the determination of the user satellite orbital elements. The Flight Dynamics Facility (FDF) at GSFC will provide the orbit determination service to these users. The charges for this service will be negotiated between the FDF and the user and will be dependent on user requirements.

8. Section 1215.108 is revised to read as follows:

§ 1215.108 Defining user service requirements.

Potential users should become familiar with TDRSS capabilities and constraints, which are detailed in the SNUG, as early as possible. This action allows the user to evaluate the trade-offs available among various TDRSS services, spacecraft design, operations planning, and other significant mission parameters. It is recommended that potential users contact the NIMO as early as possible for assistance in performing the trade studies. When these evaluations have been completed, and the user desires to use TDRSS, the user should initiate a request for TDRSS service.

(a) Initial requests for TDRSS service from non-U.S. Government users shall be addressed to SCaN at NASA Headquarters, as follows: Deputy Associate Administrator: Space Communications and Navigation Division, National Aeronautics and Space Administration, Washington, DC 20546.

(b) Upon review and acceptance of the service request, preliminary analyses shall be performed to determine the feasibility of meeting the proposed requirements.

(c) If the request is determined to be feasible, the user and SCaN shall negotiate an agreement for provision of the requested services. Acceptance of user requests for TDRSS service is the sole prerogative of NASA.

(d) Upon approval of the agreement by both parties, GSFC will be assigned to produce the detailed requirements, plans, and documentation necessary for support of the mission. Changes to user requirements shall be made as far in advance as possible and shall be submitted, in writing, to both SCaN at NASA Headquarters (see Section 108, paragraph (a) for mailing address) and GSFC, as follows: Chief: Networks Integration Management Office, Code 450.1, NASA Goddard Space Flight Center, M/S 450.1, 8800 Greenbelt Road Greenbelt, MD 20771.

9. Section 1215.109 is revised to read as follows:

§ 1215.109 Scheduling user service.

(a) User service shall be scheduled only by NASA. TDRSS services will be provided in accordance with operational priorities established by the NASA Administrator or his/her designee. See Appendix A for a description of a typical user activity timeline.

(b) Schedule conflict will be resolved in general by application of principles of priority to user service requirements. Services shall be provided either as normally scheduled service or as emergency service. Priorities will be different for emergency service than for normal services.

(1) Normally scheduled service is service which is planned and ordered under normal operational conditions and is subject to schedule conflict resolution under normal service priorities. Requests for normally scheduled service must be received by the schedulers at the GSFC WSC Data Services Management Center (DSMC) no later than 21 days prior to the requested support time.

(2) At times, emergency service requirements will override normal schedule priority. Under emergency service conditions, disruptions to scheduled service will occur.

(3) The DSMC reserves the sole right to schedule, reschedule, or cancel TDRSS service.

(4) NASA schedulers will exercise judgment and endeavor to see that lower-priority users are not excluded from a substantial portion of their contracted-for service due to the requirements of higher-priority users.

(c) General user service requirements, which will be used for preliminary planning and mission modeling, should include all pertinent information necessary for NASA to determine if the proposed service is achievable. Contact NIMO to discuss usage and requirements.

(d) Such user service requirements information typically includes:

(1) Date of service initiation.

(2) The type of TDRSS services desired (e.g., multiple access, tracking, etc.), and the frequency and duration of each service.

(3) Orbit or trajectory parameters and tracking data requirements.

(4) Spacecraft events significant to tracking, telemetry or command requirements.

(5) Communications systems specifics, including location of antennas and other related information dealing with user tracking, command, and data systems.

(6) Special test requirements, data flows, and simulations, etc.

(7) Identification of terrestrial data transport requirements, interface points, and delivery locations, including latency and line loss recovery.

(e) To provide for effective planning, reference Appendix A, Typical New User Activity Timeline.

10. Section 1215.112 is revised to read as follows:

§ 1215.112 User/NASA contractual arrangement.

No service shall be provided without an approved agreement.

11. Section 1215.113 is revised to read as follows:

§ 1215.113 User charges.

(a) The user shall reimburse NASA the sum of the charges for standard and mission-unique services. Charges will be based on the service rates applicable at the time of service.

(b) For standard services, the user shall be charged only for services rendered, except that if a total cancellation of service occurs, the user shall be charged in accordance with the provisions of § 1215.110.

(1) Standard services which are scheduled, and then cancelled by the user less than 72 hours prior to the start of that scheduled service period, will be charged as if the scheduled service actually occurred.

(2) The time scheduled by the user project shall include the slew time, set up and/or configuration time, TDRSS contact time, and all other conditions for which TDRSS services were allocated to the user.

(3) Charges will be accumulated by the minute, based on the computerized schedule/configuration messages which physically set up TDRSS equipment at the start of a support period and free the equipment for other users at the end of a support period.

(c) The user shall reimburse NASA for the costs of any mission-unique services provided by NASA.

12. Section 1215.114 is revised to read as follows:

§ 1215.114 Service rates.

(a) Rates for TDRSS services will be established by the DAA for SCaN.

(b) Per-minute rates will reflect TDRSS total return on investment and operational and maintenance costs.

(c) The rate per minute by service and type of user is available on the following Web site: https://www.spacecomm.nasa.gov/spacecomm/programs/Space_network.cfm.

(d) The per-minute charge for TDRSS service is computed by multiplying the charge per minute for the appropriate service by the number of minutes utilized.

13. Section 1215.115 is revised to read as follows:

§ 1215.115 Payment and billing.

(a) The procedure for billing and payment of standard TDRSS services is as follows:

(1) NASA shall be reimbursed by customers in connection with the use of Government property and services provided under an approved reimbursable agreement. Advance payment for services is required. Advance payments shall be scheduled to keep pace with the rate at which NASA anticipates incurring costs. NASA will provide a Customer Budget/Estimate (CBE) for services rendered nominally 60-90 days in advance, or as otherwise agreed, of the first anticipated property use or required service date for each mission. The full cost of the mission shall be paid by the customer not later than 30 days prior to the first anticipated property use or required service date.

(2) In some cases, an advance partial payment will be required six—nine months prior to the first anticipated property use or required service date in order for advance planning work and/or travel to take place. The amount of this partial payment and its receipt shall be negotiated on an as-needed basis. Adjustments to the amounts prepaid will be made to the succeeding billings as the actual services are rendered.

(3) If the customer fails to make payment by the payment due date, NASA may terminate the agreement and any subagreements for breach of agreement after notice to the customer is given of this breach and failure to cure such breach within a time period established by NASA.

(b) Late payments by the user will require the user to pay a late payment charge.

14. Appendix A is revised to read as follows:

Appendix A to Part 1215—Estimated Service Rates in 1997 Dollars for TDRSS Standard Services (Based on NASA Escalation Estimate)

Time: Project conceptualization (at least two years before launch; Ref. § 1215.108(a)).

Activity: Submit request for access to TDRSS. Upon preliminary acceptance of the service requirements by NASA Headquarters, communications for the reimbursable development of a Space Act Agreement (SAA) will begin. Prior to finalization of the Memorandum of Agreement (MOA), an estimate for the services will be issued. After SAA signature, full funding of the effort must be received prior to NASA initiating any activities associated with the effort. (Ref. § 1215.115(a)(1)).

Time: 18 months before launch (Ref. § 1215.109(c).

Activity: After full funding has been received and distributed to the executing NASA entities, submit general user requirements to permit preliminary planning. Contact will occur to facilitate the integration process for access to TDRSS. If appropriate, initiate action with the Federal Communications Commission for license to communicate with TDRSS (Ref. § 1215.107(b)).

Time: 12 months before launch (earlier if possible).

Activity: Provide detailed requirements for technical definition and development of operational and interface control documents. (Ref. § 1215.109(d)).

Time: 3 weeks prior to a Scheduled Support Period (SSP).

Activity: Submit scheduling request to NASA covering a weekly period. Receive schedule from NASA based on principles of priority (Ref. § 1215.109(b)). User confirmation of the schedule is required.

Time: Up to 72 hours prior to an SSP.

Activity: Can cancel an SSP without charge (Ref. § 1215.113(b)(1)).

Time: Up to 45 minutes prior to an SPP.

Activity: Can schedule an SSP if a time slot is available without impacting another user.

Time: Up to 10 minutes prior to an SSP.

Activity: Can schedule an SSP utilizing TDRSS unused time (TUT).

Charles F. Bolden, Jr.,
Administrator.

[FR Doc. 2012-2652 Filed 2-9-12; 8:45 am]

BILLING CODE P